ENVIRONMENTAL PROTECTION AGENCY

[OPP-2003-0019; FRL-7709-4]

Ethoprop; Products Cancellation Order

AGENCY: Environmental Protection Agency (EPA)

ACTION: Notice.

SUMMARY: This notice announces EPA's order for the cancellations, voluntarily requested by the registrant and accepted by the Agency, of the following products containing the pesticide ethoprop, pursuant to section 6(f)(1) of the Federal Insecticide, Fungicide, and Rodenticide Act (FIFRA), as amended. This cancellation order follows a February 5, 2003 Federal Register Notice of Receipt of Requests to voluntarily cancel certain Pesticide Registrations. In the February 5, 2003 Federal Register Notice, EPA indicated that it would issue an order implementing the cancellations, unless the Agency received substantive comments within the 180-day comment period that would merit its further review of these requests, or unless the registrant withdrew their request within the period. The Agency did not receive any comments on the Notice. Further, the registrant did not withdraw their request. Accordingly, EPA hereby issues in this notice a cancellation order granting the requested cancellations. Any distribution, sale, or use of the ethoprop products subject to this cancellation order is permitted only in accordance with the terms of this order, including any existing stocks provisions.

DATES: The cancellations are effective April 27, 2005.

FOR FURTHER INFORMATION CONTACT: Jacqueline Guerry, Special Review and Reregistration Division (7508C), Office of Pesticide Programs, Environmental Protection Agency, 1200 Pennsylvania Ave., NW., Washington, DC 20460-0001; telephone number: (703) 305-0024; fax number: (703) 308-8005; e-mail address: guerry.jacqueline@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2003-0019. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. What Action is the Agency Taking?

This notice announces the cancellations, as requested by the registrant, of certain ethoprop products registered under section 3 of FIFRA. These registrations are listed by registration number in Table 1 of this unit.

Table 1.—Ethoprop Product Cancellations
EPA Registration No. | Product Name
264-456 | Ethoprop Technical
264-465 | MOCAP 10% Granular Nematicide-Insecticide
264 FL-85-0001 | MOCAP 10% Granular Nematicide-Insecticide
264 ME-93-0003 | MOCAP 10% Granular Nematicide-Insecticide

Table 2 of this unit includes the name and address of the registrant of the products in Table 1 of this unit.

Table 2.—Registrant of Canceled Ethoprop Products
EPA Company No. | Company Name and Address
264 | Bayer Crop Science (formerly Aventis Crop Science) USA, L.P. 2 T.W. Alexander Drive P.O. Box 12014 Research Triangle Park, NC 27709

III. Summary of Public Comments Received

During the public comment period provided, EPA received no comments in response to the February 5, 2003Federal Register Notice announcing the Agency's receipt of the requests for the respective voluntary cancellations of ethoprop.

IV. Cancellation Order

Pursuant to FIFRA section 6(f), EPA hereby approves the requested cancellations of ethoprop registrations identified in Table 1 of Unit II. Accordingly, the Agency orders that the ethoprop product registrations identified in Table 1 of Unit II. are hereby canceled. Any distribution, sale, or use of existing stocks of the products identified in Table 1 of Unit II. in a manner inconsistent with any of the provisions for disposition of existing stocks set forth below in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The effective date of cancellation is April 27, 2005. The Provisions for Disposition of Existing Stocks from the February 5, 2003 Federal Register Notice indicated that the registrant was permitted to sell or distribute existing stocks for 1 year after the date the cancellation request was received. The request to voluntarily cancel the ethoprop product registration identified in Table 1 of Unit II. was received by the Agency on October 8, 2002. Therefore, the registrant was allowed to sell and distribute existing stocks until October 8, 2003. Existing stocks already in the possession of dealers or users can be distributed, sold, or used legally until stocks are exhausted, provided that such further sale and use comply with the EPA-approved labels and labeling of the affected products.

List of Subjects

Environmental protection, Pesticides and pests.

Dated: April 19, 2005.
Debra Edwards,
Director, Special Review and Reregistration Division, Office of Pesticide Programs.

[FR Doc. 05-8383 Filed 4-26-05; 8:45 am]

BILLING CODE 6560-50-S